Proclamation 10655 of October 13, 2023

Blind Americans Equality Day, 2023

By the President of the United States of America

A Proclamation

On Blind Americans Equality Day, my Administration celebrates the contributions that people who are blind or low vision have made to our country, and we recommit to creating a more accessible Nation where everyone has the opportunity to realize their full potential.

More than 33 years ago, the United States Congress passed the Americans with Disabilities Act, a landmark civil rights law that banned discrimination against people with disabilities in many areas of public life. I was proud to co-sponsor that historic bill as a United States Senator, and I am proud of its lasting impact today.

Despite the progress we have made, we have more work to do to uphold the rights of Americans with visual disabilities. Less than half of blind or low vision Americans are employed. Public services—including online resources—are often designed in ways that make them inaccessible to this community. These are but a few of the many obstacles blind and low vision Americans still face.

As President, I have made it a priority to end discrimination, increase independence, and expand opportunity for everyone, including Americans who are blind or low vision. Soon after taking office, I issued an Executive Order to establish a Government-wide policy of diversity, equity, inclusion, and accessibility in the workplace to promote fairness in the labor market for Americans with disabilities. This Executive Order directs agencies to find and remove barriers to hiring and promotion for job applicants and employees who are disabled. Further, my Administration ended the practice of paying people employed through the AbilityOne Commission—which creates opportunities for people who are blind or have significant disabilities—less than minimum wage. I have also named the first-ever White House Disability Policy Director, whose team is working every day to defend and advance the rights of Americans with disabilities. I awarded José Feliciano the National Medal of Arts, recognizing his immense contributions as a guitarist and pioneering artist who has bridged cultures and styles, won Grammy Awards, and opened doors for generations of Latino artists and the heart of our Nation.

My Administration has also taken steps to increase accessibility for blind and low vision Americans. Through the Bipartisan Infrastructure Law, we are reducing the barriers that blind Americans face in their daily lives by investing $1.75 billion to improve the accessibility of transit stations across America. Under my direction, the Department of Transportation is working to expand access to transportation for people with disabilities. Meanwhile, the Department of Justice has proposed a new rule that would make State and local governments' web and mobile apps more accessible, enabling those who are blind or low vision to access critical online resources. Additionally, the National Institutes of Health designated people with disabilities as a population with health disparities, which will encourage research specific to the health issues and unmet health needs for blind and low vision Americans. I am also proud to have secured billions of dollars to expand educational opportunities for students with disabilities.

This Blind Americans Equality Day, let us rededicate ourselves to defending and strengthening the rights of blind and low vision Americans so each and every person in our Nation has the chance to achieve the American Dream.

By joint resolution approved on October 6, 1964 (Public Law 88-628, as amended), the Congress authorized October 15 of each year as “White Cane Safety Day,” which is recognized today as “Blind Americans Equality Day,” to honor the contributions of blind and low vision Americans.

NOW, THEREFORE, I, JOSEPH R. BIDEN JR., President of the United States of America, by virtue of the authority vested in me by the Constitution and the laws of the United States, do hereby proclaim October 15, 2023, as Blind Americans Equality Day. I call upon all the people of the United States—including all government officials, educators, and volunteers—to mark this day with appropriate programs, ceremonies, and activities.

IN WITNESS WHEREOF, I have hereunto set my hand this thirteenth day of October, in the year of our Lord two thousand twenty-three, and of the Independence of the United States of America the two hundred and forty-eighth.

[FR Doc. 2023-23099

Filed 10-17-23; 8:45 am]

Billing code 3395-F4-P